DEPARTMENT OF ENERGY

Security 229 Boundary Revision at Oak Ridge Reservation, Y-12 National Security Complex

AGENCY: Real Estate Office, Oak Ridge Office, TN, U.S. Department of Energy.

ACTION: Notice of 229 boundary revision for Y-12 National Security Complex.

SUMMARY: Appended to this notice is the revised security boundary for the National Nuclear Security Administration facility identified as the Y-12 National Security Complex within the Oak Ridge Reservation at Oak Ridge, Tennessee.

FOR FURTHER INFORMATION CONTACT: Katy Kates, Realty Officer at Oak Ridge Office, 865-576-0977, katesse@oro.doe.gov.

SUPPLEMENTARY INFORMATION: This security boundary is designated pursuant to Section 229 of the Atomic Energy Act of 1954. This revised boundary supersedes and/or redescribes the entries previously contained in Federal Register notices published October 19, 1965, at 30 FR 202 and the amending notice published July 8, 1985, at 50 FR 130, which identified the Y-12 Plant site and related facilities all being located in Anderson County, Tennessee.

Issued in Oak Ridge, Tennessee on October 15, 2004.
Daniel H. Wilken,
Assistant Manager for Administration.

Appendix

Security 229 Boundary Revision at Oak Ridge Reservation, Y-12 National Security Complex

Notice is hereby given that the United States Department of Energy, pursuant to section 229 of the Atomic Energy Act of 1954, as amended, as implemented by 10 CFR part 860 published in the Federal Register on August 16, 1963 (28 FR 8400), prohibits the unauthorized entry, as provided in 10 CFR 860.3, and the unauthorized introduction of weapons or dangerous materials, as provided in 10 CFR 860.4, into or upon the following described facility of the United States Department of Energy:

The bearings and distances of the description set forth below are based on the Tennessee State Plane Coordinate System NAD 83 (88).

A parcel of land situated in Anderson County, Tennessee within the Oak Ridge Reservation in Oak Ridge, Tennessee and being identified as the Y-12 National Security Complex of the National Nuclear Security Administration. Beginning at an iron pin, said iron pin being located in the west right-of-way of the South Illinois Avenue “wye” and being located at State Plane Grid Coordinates N=611,517.13 and E=2,487,754.62; thence along the following bearings and distances to a point located by iron pins at each of the calls:

S 46°25′25″ E a distance of 487.56 feet,

S 46°25′25″ E a distance of 194.22 feet,

S 64°22′21″ E a distance of 204.07 feet,

S 39°30′35″ E a distance of 894.44 feet,

S 12°34′25″ W a distance of 47.01 feet,

S 40°28′42″ E a distance of 90.39 feet,

N 52°43′13″ E a distance of 52.66 feet,

N 53°23′27″ E a distance of 50.46 feet,

N 84°27′17″ E a distance of 53.14 feet,

S 75°26′32″ E a distance of 34.40 feet,

S 68°04′27″ E a distance of 681.13 feet;

Thence a distance of 334.72 feet along a curve to the right having a radius of 3654.36 feet and a chord bearing of S 65°27′42″ E and a distance of 334.60 feet;

S 60°30′03″ E a distance of 399.71 feet,

S 41°00′20″ E a distance of 27.51 feet;

Thence a distance of 62.62 feet along a curve to the right having a radius of 35.00 feet and a chord bearing of S 10°15′17″ W and a distance of 54.59 feet;

S 61°30′55″ W a distance of 18.83 feet,

S 28°29′05″ E a distance of 63.62 feet,

N 74°24′26″ E a distance of 81.70 feet,

S 84°30′40″ E a distance of 69.77 feet,

S 68°35′40″ E a distance of 125.65 feet,

S 65°47′40″ E a distance of 265.69 feet,

S 60°48′40″ E a distance of 284.13 feet,

S 57°44′40″ E a distance of 250.37 feet,

S 55°39′40″ E a distance of 547.63 feet,

S 41°49′40″ E a distance of 134.62 feet,

S 31°23′40″ E a distance of 398.14 feet,

N 59°06′16″ E a distance of 36.69 feet;

Thence a distance of 235.30 feet along a curve to the left having a radius of 2352.12 feet and a chord bearing of S 36°25′11″ E and a distance of 235.20 feet;

S 37°37′14″ E a distance of 312.21 feet,

S 35°45′22″ E a distance of 330.90 feet,

S 36°23′29″ E a distance of 606.16 feet;

Thence a distance of 86.90 feet along a curve to the right having a radius of 366.98 feet and a chord bearing of S 30°36′48″ E and a distance of 86.70 feet;

Thence a distance of 49.59 feet along a curve to the left having a radius of 288.95 feet and a chord bearing of S 26°36′16″ E and a distance of 49.52 feet;

S 31°23′36″ E a distance of 88.11 feet,

S 27°43′42″ E a distance of 588.99 feet;

Thence a distance of 130.10 feet along a curve to the right having a radius of 1871.86 feet and a chord bearing of S 23°49′30″ E and a distance of 130.07 feet;

S 20°46′47″ E a distance of 148.91 feet;

Thence a distance of 102.74 feet along a curve to the left having a radius of 1060.61 feet and a chord bearing of S 22°56′11″ E and a distance of 102.70 feet;

S 21°23′58″ E a distance of 249.78 feet,

S 07°12′51″ W a distance of 185.34 feet,

S 09°49′55″ W a distance of 181.89 feet,

S 14°34′48″ W a distance of 368.08 feet,

S 24°12′32″ W a distance of 191.98 feet,

S 42°01′40″ W a distance of 117.36 feet,

S 56°41′47″ W a distance of 320.00 feet,

S 61°08′20″ W a distance of 65.74 feet,

S 58°34′50″ W a distance of 224.37 feet,

S 66°32′37″ W a distance of 174.83 feet,

S 68°17′49″ W a distance of 189.40 feet,

S 66°25′37″ W a distance of 167.35 feet,

S 64°50′22″ W a distance of 102.28 feet,

S 55°51′07″ W a distance of 123.78 feet,

S 59°53′17″ W a distance of 167.82 feet,

S 62°45′29″ W a distance of 415.66 feet,

S 63°01′50″ W a distance of 200.82 feet,

S 60°50′52″ W a distance of 137.56 feet,

S 57°52′28″ W a distance of 41.63 feet,

S 57°22′27″ W a distance of 55.59 feet,

S 54°31′35″ W a distance of 66.48 feet,

S 52°23′07″ W a distance of 89.96 feet,

S 46°32′03″ W a distance of 139.81 feet,

S 45°42′09″ W a distance of 205.37 feet,

S 46°33′46″ W a distance of 177.19 feet,

S 51°56′55″ W a distance of 236.00 feet,

S 56°32′26″ W a distance of 211.34 feet,

S 59°57′13″ W a distance of 297.15 feet,

S 58°08′57″ W a distance of 179.90 feet,

S 53°05′38″ W a distance of 211.32 feet,

S 51°24′39″ W a distance of 143.47 feet,

S 51°16′37″ W a distance of 703.98 feet,

S 51°26′00″ W a distance of 174.70 feet,

S 51°58′29″ W a distance of 54.24 feet,

S 51°11′27″ W a distance of 325.77 feet,

S 50°33′57″ W a distance of 200.03 feet,

S 52°32′40″ W a distance of 224.98 feet,

S 54°43′22″ W a distance of 115.12 feet,

S 61°17′36″ W a distance of 121.27 feet,

S 59°18′08″ W a distance of 89.56 feet,

S 53°43′47″ W a distance of 97.97 feet,

S 44°50′59″ W a distance of 104.33 feet,

S 39°06′34″ W a distance of 597.64 feet,

S 43°42′20″ W a distance of 342.63 feet,

S 50°55′40″ W a distance of 655.53 feet,

S 51°29′14″ W a distance of 163.35 feet,

S 51°29′36″ W a distance of 93.98 feet,

S 62°06′33″ W a distance of 244.69 feet,

S 51°53′10″ W a distance of 92.10 feet,

S 52°57′39″ W a distance of 71.75 feet,

S 51°22′08″ W a distance of 318.93 feet,

S 51°04′14″ W a distance of 405.64 feet,

S 64°31′21″ W a distance of 18.65 feet,

S 42°24′41″ W a distance of 35.02 feet,

S 52°23′44″ W a distance of 40.07 feet,

S 52°24′51″ W a distance of 45.20 feet,

S 53°28′25″ W a distance of 247.35 feet,

S 59°46′04″ W a distance of 195.54 feet,

S 66°09′10″ W a distance of 288.09 feet,

S 66°37′33″ W a distance of 256.79 feet,

S 62°55′08″ W a distance of 139.60 feet,

S 48°54′50″ W a distance of 132.67 feet,

S 33°49′23″ W a distance of 126.30 feet,

S 26°55′55″ W a distance of 187.00 feet,

S 34°23′22″ W a distance of 186.72 feet,

S 48°51′42″ W a distance of 133.21 feet,

S 52°37′02″ W a distance of 560.77 feet,

N 66°01′59″ W a distance of 24.60 feet,

N 83°08′04″ W a distance of 68.54 feet,

N 30°08′16″ W a distance of 101.85 feet,

S 65°02′55″ W a distance of 56.79 feet,

N 21°23′06″ W a distance of 156.25 feet,

N 32°55′02″ W a distance of 206.58 feet,

N 40°35′55″ W a distance of 196.27 feet,

N 09°44′34″ W a distance of 89.76 feet,

N 03°38′20″ E a distance of 55.89 feet,

N 14°11′20″ E a distance of 54.56 feet,

N 29°04′22″ E a distance of 113.35 feet,

N 26°31′04″ E a distance of 168.46 feet,

N 28°05′44″ E a distance of 79.33 feet,

N 34°35′24″ E a distance of 150.51 feet,

N 34°08′37″ E a distance of 138.36 feet,

N 37°07′46″ E a distance of 143.50 feet,

N 38°29′47″ E a distance of 70.51 feet,

N 30°23′20″ E a distance of 47.17 feet,

N 18°20′11″ E a distance of 51.19 feet,

N 03°44′41″ E a distance of 56.24 feet,

N 19°05′51″ W a distance of 58.67 feet,

N 35°17′41″ W a distance of 58.15 feet,

N 45°54′09″ W a distance of 150.73 feet,

N 55°43′33″ W a distance of 77.30 feet,

N 68°58′04″ W a distance of 76.46 feet,

N 78°21′36″ W a distance of 132.22 feet,

N 70°03′53″ W a distance of 183.66 feet,

N 86°24′59″ W a distance of 54.73 feet,

N 54°00′50″ W a distance of 17.07 feet,

N 65°14′04″ W a distance of 129.89 feet,

S 20°51′26″ W a distance of 124.69 feet,

S 22°27′24″ W a distance of 77.75 feet,

S 27°59′49″ W a distance of 50.12 feet,

S 31°51′44″ W a distance of 49.25 feet,

S 37°46′53″ W a distance of 84.37 feet,

S 51°58′24″ W a distance of 78.10 feet,

S 61°08′24″ W a distance of 78.55 feet,

S 69°06′16″ W a distance of 59.55 feet,

S 72°11′29″ W a distance of 159.42 feet,

S 76°24′36″ W a distance of 49.53 feet,

S 85°19′07″ W a distance of 27.29 feet,

S 74°03′06″ W a distance of 47.43 feet,

S 80°03′35″ W a distance of 64.45 feet,

S 55°39′30″ W a distance of 33.59 feet,

S 82°14′03″ W a distance of 194.45 feet,

N 86°28′53″ W a distance of 240.54 feet,

N 36°55′09″ W a distance of 126.81 feet,

N 79°16′05″ W a distance of 70.61 feet,

N 82°27′12″ W a distance of 97.53 feet,

N 75°14′49″ W a distance of 257.60 feet,

N 67°18′21″ W a distance of 74.47 feet,

N 71°54′54″ W a distance of 163.22 feet,

N 78°46′23″ W a distance of 123.24 feet,

N 74°11′28″ W a distance of 88.54 feet,

N 54°53′28″ W a distance of 130.59 feet,

N 43°19′26″ W a distance of 85.71 feet,

N 39°11′34″ W a distance of 57.54 feet,

N 16°13′43″ W a distance of 87.94 feet,

N 56°41′12″ W a distance of 120.20 feet,

N 10°37′09″ E a distance of 156.06 feet,

N 04°44′10″ E a distance of 76.99 feet,

N 22°06′28″ W a distance of 134.61 feet,

N 28°13′53″ W a distance of 136.97 feet,

N 06°05′29″ W a distance of 44.29 feet,

N 06°27′04″ W a distance of 153.70 feet,

N 30°35′19″ W a distance of 18.88 feet,

N 05°26′33″ E a distance of 62.60 feet,

N 06°51′14″ W a distance of 72.70 feet,

N 35°09′37″ W a distance of 70.52 feet,

S 72°44′13″ W a distance of 294.53 feet,

N 83°18′30″ W a distance of 220.95 feet,

S 80°01′15″ W a distance of 417.69 feet,

S 78°47′55″ W a distance of 142.35 feet,

S 80°48′08″ W a distance of 340.12 feet,

S 75°09′19″ W a distance of 243.31 feet,

S 72°29′33″ W a distance of 332.90 feet,

S 64°19′46″ W a distance of 56.29 feet,

S 21°27′53″ E a distance of 16.18 feet,

S 46°02′21″ W a distance of 144.93 feet,

S 44°11′43″ W a distance of 107.91 feet,

S 46°38′23″ W a distance of 118.82 feet,

S 51°31′17″ W a distance of 140.43 feet,

S 41°32′55″ W a distance of 69.19 feet,

S 50°45′06″ W a distance of 123.82 feet,

S 74°53′55″ W a distance of 61.23 feet,

S 71°19′58″ W a distance of 63.26 feet,

S 59°42′07″ W a distance of 48.59 feet,

S 38°42′09″ W a distance of 47.60 feet,

S 21°07′37″ W a distance of 14.01 feet,

S 22°17′15″ W a distance of 42.33 feet,

S 38°23′53″ W a distance of 125.48 feet,

S 29°45′28″ W a distance of 109.63 feet,

S 23°00′56″ W a distance of 51.53 feet,

S 33°09′29″ W a distance of 65.36 feet,

S 43°44′27″ W a distance of 41.04 feet,

S 36°34′06″ W a distance of 19.15 feet,

S 55°40′05″ W a distance of 39.36 feet,

S 73°06′42″ W a distance of 87.60 feet,

S 67°03′23″ W a distance of 20.36 feet,

S 61°13′28″ W a distance of 70.15 feet,

S 68°33′34″ W a distance of 89.85 feet,

N 39°03′36″ W a distance of 291.49 feet,

N 38°56′19″ W a distance of 303.24 feet,

N 38°56′23″ W a distance of 164.80 feet,

N 38°56′23″ W a distance of 46.78 feet,

N 38°59′17″ W a distance of 187.02 feet,

N 36°26′08″ W a distance of 116.70 feet,

N 31°55′54″ W a distance of 199.17 feet,

N 21°44′47″ W a distance of 159.30 feet,

N 14°23′20″ W a distance of 166.55 feet,

N 24°10′55″ W a distance of 76.15 feet,

N 36°14′34″ W a distance of 102.36 feet,

N 21°59′31″ W a distance of 171.34 feet,

N 57°11′45″ W a distance of 81.41 feet,

N 41°56′28″ W a distance of 105.80 feet,

N 47°01′49″ E a distance of 93.93 feet,

N 43°33′46″ E a distance of 11.58 feet,

N 33°08′20″ E a distance of 47.85 feet,

N 43°01′32″ E a distance of 23.80 feet,

N 35°12′37″ E a distance of 21.93 feet,

N 38°00′38″ W a distance of 12.77 feet,

N 39°36′51″ W a distance of 42.99 feet,

N 33°37′00″ W a distance of 65.19 feet,

N 42°13′09″ E a distance of 11.23 feet,

N 39°21′06″ E a distance of 18.31 feet,

N 43°47′37″ W a distance of 94.02 feet,

N 39°19′11″ W a distance of 77.12 feet,

N 62°23′59″ W a distance of 39.84 feet,

N 67°21′20″ W a distance of 43.16 feet,

N 51°42′44″ W a distance of 109.52 feet,

N 26°28′35″ W a distance of 26.42 feet,

N 31°33′35″ E a distance of 103.13 feet,

N 04°42′25″ E a distance of 49.34 feet,

N 10°50′26″ W a distance of 57.41 feet,

N 09°31′04″ W a distance of 259.67 feet,

N 32°33′48″ W a distance of 238.14 feet,

N 35°35′12″ W a distance of 171.65 feet,

N 37°25′52″ W a distance of 180.80 feet,

N 64°46′21″ E a distance of 67.00 feet,

N 43°07′08″ E a distance of 265.84 feet,

N 63°09′01″ E a distance of 184.95 feet,

N 29°45′29″ E a distance of 116.97 feet,

N 19°02′40″ E a distance of 162.89 feet,

N 79°02′51″ E a distance of 255.61 feet,

N 41°40′15″ E a distance of 73.35 feet,

N 38°17′21″ E a distance of 161.04 feet,

N 42°03′59″ E a distance of 130.60 feet,

N 58°04′51″ E a distance of 163.12 feet,

N 25°55′32″ W a distance of 58.37 feet,

N 18°31′15″ W a distance of 32.02 feet,

N 30°39′40″ W a distance of 43.46 feet,

N 25°25′55″ W a distance of 75.09 feet,

N 02°00′03″ E a distance of 135.07 feet,

N 79°18′57″ W a distance of 134.63 feet,

N 67°33′52″ W a distance of 242.20 feet,

N 32°42′03″ W a distance of 104.70 feet,

N 36°14′11″ W a distance of 180.89 feet,

N 34°02′27″ W a distance of 139.00 feet,

N 33°16′40″ W a distance of 183.87 feet,

N 21°53′27″ W a distance of 112.52 feet,

N 58°59′55″ W a distance of 41.00 feet,

N 38°11′10″ W a distance of 104.91 feet,

N 36°57′11″ W a distance of 312.79 feet,

N 36°15′48″ W a distance of 102.82 feet,

N 32°18′10″ W a distance of 138.91 feet,

N 37°36′51″ W a distance of 132.85 feet,

N 38°21′19″ E a distance of 47.59 feet;

Thence a distance of 119.00 feet along a curve to the left having a radius of 154.98 feet and a chord bearing of S 71°32′02″ E and a distance of 116.09 feet;

S 88°45′12″ E a distance of 80.42 feet,

S 81°41′27″ E a distance of 32.15 feet,

S 77°05′40″ E a distance of 135.27 feet;

Thence a distance of 160.21 feet along a curve to the left having a radius of 371.86 feet and a chord bearing of S 84°41′01″ E and a distance of 158.97 feet;

N 81°28′15″ E a distance of 170.39 feet;

Thence a distance of 118.35 feet along a curve to the right having a radius of 558.44 feet and a chord bearing of N 86°50′56″ E and a distance of 118.13 feet;

S 84°12′29″ E a distance of 160.95 feet;

Thence a distance of 129.91 feet along a curve to the right having a radius of 323.54 feet and a chord bearing of N 86°13′00″ E and a distance of 129.04 feet;

N 69°33′56″ E a distance of 110.02 feet;

Thence a distance of 189.21 feet along a curve to the left having a radius of 1254.00 feet and a chord bearing of N 66°09′31″ E and a distance of 189.03 feet;

N 60°24′05″ E a distance of 240.41 feet,

N 59°13′33″ E a distance of 79.68 feet,

N 56°52′13″ E a distance of 246.05 feet;

Thence a distance of 56.79 feet along a curve to the right having a radius of 1579.75 feet and a chord bearing of N 58°36′13″ E and a distance of 56.79 feet;

N 60°39′51″ E a distance of 355.18 feet,

N 58°51′39″ E a distance of 169.33 feet,

N 57°54′52″ E a distance of 80.29 feet,

N 54°48′19″ E a distance of 329.07 feet,

N 51°33′24″ E a distance of 59.67 feet;

Thence a distance of 272.54 feet along a curve to the right having a radius of 522.81 feet and a chord bearing of N 61°03′40″ E and a distance of 269.46 feet;

N 73°48′40″ E a distance of 687.35 feet;

Thence a distance of 109.34 feet along a curve to the left having a radius of 406.92 feet and a chord bearing of N 68°30′24″ E and a distance of 109.01 feet;

N 61°55′59″ E a distance of 218.98 feet,

N 58°19′10″ E a distance of 120.18 feet,

N 57°40′32″ E a distance of 459.59 feet;

Thence a distance of 89.18 feet along a curve to the left having a radius of 189.42 feet and a chord bearing of N 44°54′14″ E and a distance of 88.35 feet;

Thence a distance of 251.58 feet along a curve to the right having a radius of 192.97 feet and a chord bearing of N 54°44′32″ E and a distance of 234.14 feet;

N 86°58′09″ E a distance of 122.42 feet;

Thence a distance of 125.70 feet along a curve to the left having a radius of 123.87 feet and a chord bearing of N 61°02′55″ E and a distance of 120.38 feet;

N 34°12′19″ E a distance of 48.88 feet;

Thence a distance of 120.18 feet along a curve to the right having a radius of 218.19 feet and a chord bearing of N 51°00′05″ E and a distance of 118.67 feet;

N 65°48′14″ E a distance of 158.11 feet;

Thence a distance of 66.46 feet along a curve to the left having a radius of 286.14 feet and a chord bearing of N 59°49′47″ E and a distance of 66.31 feet; N 49°23′13″ E a distance of 58.96 feet;

Thence a distance of 86.10 feet along a curve to the right having a radius of 155.35 feet and a chord bearing of N 61°34′55″ E and a distance of 85.00 feet;

N 78°11′41″ E a distance of 51.07 feet;

Thence a distance of 67.77 feet along a curve to the left having a radius of 93.31 feet and a chord bearing of N 55°11′16″ E and a distance of 66.29 feet;

N 30°42′02″ E a distance of 70.01 feet;

Thence a distance of 170.51 feet along a curve to the right having a radius of 245.94 feet and a chord bearing of N 48°22′51″ E and a distance of 167.12 feet;

N 69°41′17″ E a distance of 130.48 feet;

Thence a distance of 78.64 feet along a curve to the right having a radius of 212.94 feet and a chord bearing of N 82°09′00″ E and a distance of 78.20 feet;

Thence a distance of 63.04 feet along a curve to the right having a radius of 101.40 feet and a chord bearing of S 69°15′00″ E and a distance of 62.03 feet;

Thence a distance of 89.77 feet along a curve to the right having a radius of 290.95 feet and a chord bearing of S 39°09′04″ E and a distance of 89.42 feet;

S 51°08′06″ E a distance of 49.25 feet;

Thence a distance of 91.26 feet along a curve to the left having a radius of 45.25 feet and a chord bearing of N 72°35′55″ E and a distance of 76.56 feet;

N 16°49′50″ E a distance of 99.57 feet;

Thence a distance of 102.73 feet along a curve to the right having a radius of 274.36 feet and a chord bearing of N 26°21′28″ E and a distance of 102.13 feet;

Thence a distance of 88.41 feet along a curve to the right having a radius of 163.73 feet and a chord bearing of N 53°45′40″ E and a distance of 87.34 feet;

N 80°13′40″ E a distance of 48.76 feet;

Thence a distance of 88.53 feet along a curve to the left having a radius of 98.89 feet and a chord bearing of N 63°48′08″ E and a distance of 85.60 feet;

N 35°29′17″ E a distance of 69.20 feet;

Thence a distance of 126.21 feet along a curve to the right having a radius of 315.26 feet and a chord bearing of N 47°50′19″ E and a distance of 125.37 feet;

Thence a distance of 118.08 feet along a curve to the right having a radius of 256.97 feet and a chord bearing of N 69°30′09″ E and a distance of 117.04 feet;

Thence a distance of 96.52 feet along a curve to the right having a radius of 157.59 feet and a chord bearing of S 75°09′06″ E and a distance of 95.02 feet;

S 63°25′59″ E a distance of 181.24 feet,

N 77°00′10″ E a distance of 60.13 feet,

N 71°37′23″ E a distance of 44.39 feet,

N 78°14′53″ E a distance of 40.72 feet;

Thence a distance of 96.53 feet along a curve to the left having a radius of 114.54 feet and a chord bearing of N 67°02′46″ E and a distance of 93.70 feet;

N 42°28′05″ E a distance of 44.98 feet;

Thence a distance of 118.99 feet along a curve to the right having a radius of 253.19 feet and a chord bearing of N 58°43′22″ E and a distance of 117.90 feet;

N 76°19′12″ E a distance of 66.71 feet;

Thence a distance of 138.59 feet along a curve to the left having a radius of 102.26 feet and a chord bearing of N 50°56′43″ E and a distance of 128.23 feet;

Thence a distance of 94.25 feet along a curve to the right having a radius of 258.25 feet and a chord bearing of N 20°03′27″ E and a distance of 93.72 feet;

Thence a distance of 88.75 feet along a curve to the right having a radius of 144.08 feet and a chord bearing of N 48°35′50″ E and a distance of 87.36 feet;

Thence a distance of 132.51 feet along a curve to the right having a radius of 423.05 feet and a chord bearing of N 70°29′57″ E and a distance of 131.97 feet;

Thence a distance of 96.18 feet along a curve to the left having a radius of 101.22 feet and a chord bearing of N 64°06′04″ E and a distance of 92.60 feet;

N 38°58′18″ E a distance of 49.60 feet,

N 40°48′12″ E a distance of 36.85 feet;

Thence a distance of 93.10 feet along a curve to the right having a radius of 190.71 feet and a chord bearing of N 55°26′32″ E and a distance of 92.18 feet;

N 70°31′45″ E a distance of 148.98 feet;

Thence a distance of 114.81 feet along a curve to the left having a radius of 204.20 feet and a chord bearing of N 54°14′16″ E and a distance of 113.30 feet;

N 34°42′13″ E a distance of 61.92 feet;

Thence a distance of 105.92 feet along a curve to the right having a radius of 253.10 feet and a chord bearing of N 46°39′38″ E and a distance of 105.15 feet;

N 59°04′37″ E a distance of 140.18 feet,

N 60°56′33″ E a distance of 80.09 feet;

Thence a distance of 116.39 feet along a curve to the left having a radius of 286.97 feet and a chord bearing of N 51°51′02″ E and a distance of 115.59 feet;

Thence a distance of 100.95 feet along a curve to the right having a radius of 271.49 feet and a chord bearing of N 52°30′51″ E and a distance of 100.37 feet;

Thence a distance of 106.76 feet along a curve to the left having a radius of 224.96 feet and a chord bearing of N 50°25′41″ E and a distance of 105.76 feet;

Thence a distance of 111.88 feet along a curve to the right having a radius of 201.98 feet and a chord bearing of N 52°51′03″ E and a distance of 110.45 feet;

Thence a distance of 79.05 feet along a curve to the left having a radius of 138.81 feet and a chord bearing of N 54°19′25″ E and a distance of 77.98 feet;

N 35°25′58″ E a distance of 35.96 feet;

Thence a distance of 95.97 feet along a curve to the right having a radius of 164.55 feet and a chord bearing of N 52°42′36″ E and a distance of 94.62 feet;

N 71°13′19″ E a distance of 49.99 feet,

N 62°59′29″ E a distance of 71.02 feet,

N 68°01′30″ E a distance of 96.52 feet;

Thence a distance of 99.85 feet along a curve to the left having a radius of 273.40 feet and a chord bearing of N 57°03′39″ E and a distance of 99.30 feet;

Thence a distance of 100.67 feet along a curve to the right having a radius of 354.97 feet and a chord bearing of N 51°12′38″ E and a distance of 100.33 feet;

N 58°43′39″ E a distance of 139.63 feet,

N 64°54′29″ E a distance of 178.46 feet;

Thence a distance of 119.93 feet along a curve to the left having a radius of 121.04 feet and a chord bearing of N 41°56′03″ E and a distance of 115.09 feet;

N 21°57′45″ E a distance of 61.47 feet;

Thence a distance of 67.58 feet along a curve to the right having a radius of 104.41 feet and a chord bearing of N 44°42′09″ E and a distance of 66.41 feet;

Thence a distance of 70.82 feet along a curve to the right having a radius of 110.66 feet and a chord bearing of N 81°56′21″ E and a distance of 69.62 feet;

S 75°13′34″ E a distance of 38.98 feet,

S 70°40′13″ E a distance of 99.33 feet,

S 74°2′20′″ E a distance of 50.61 feet;

Thence a distance of 127.29 feet along a curve to the left having a radius of 83.20 feet and a chord bearing of N 70°27′22″ E and a distance of 115.23 feet;

N 19°42′24″ E a distance of 69.47 feet;

Thence a distance of 90.74 feet along a curve to the right having a radius of 146.44 feet and a chord bearing of N 37°23′54″ E and a distance of 89.30 feet;

N 54°45′44″ E a distance of 266.17 feet,

N 49°20′39″ E a distance of 23.35 feet,

N 44°18′53″ E a distance of 72.37 feet;

Thence a distance of 137.61 feet along a curve to the right having a radius of 303.20 feet and a chord bearing of N 56°45′30″ E and a distance of 136.44 feet;

N 65°26′08″ E a distance of 219.74 feet,

N 60°27′37″ E a distance of 180.07 feet;

Thence a distance of 118.52 feet along a curve to the left having a radius of 220.33 feet and a chord bearing of N 56°30′15″ E and a distance of 117.10 feet;

N 42°11′57″ E a distance of 50.07 feet;

Thence a distance of 71.15 feet along a curve to the right having a radius of 167.32 feet and a chord bearing of N 57°50′34″ E and a distance of 70.62 feet;

N 73°32′28″ E a distance of 39.54 feet;

Thence a distance of 78.54 feet along a curve to the left having a radius of 114.83 feet and a chord bearing of N 53°40′20″ E and a distance of 77.02 feet;

Thence a distance of 69.35 feet along a curve to the right having a radius of 317.86 feet and a chord bearing of N 38°06′56″ E and a distance of 69.21 feet;

Thence a distance of 97.16 feet along a curve to the right having a radius of 270.45 feet and a chord bearing of N 55°43′50″ E and a distance of 96.63 feet;

Thence a distance of 59.46 feet along a curve to the right having a radius of 151.86 feet and a chord bearing of N 83°18′11″ E and a distance of 59.09 feet;

S 83°42′52″ E a distance of 28.07 feet;

Thence a distance of 107.00 feet along a curve to the left having a radius of 99.53 feet and a chord bearing of N 58°02′26″ E and a distance of 101.92 feet;

N 29°40′02″ E a distance of 96.11 feet,

N 36°45′23″ E a distance of 52.85 feet;

Thence a distance of 70.20 feet along a curve to the right having a radius of 200.82 feet and a chord bearing of N 46°40′52″ E and a distance of 69.85 feet;

N 55°42′28″ E a distance of 620.71 feet;

N 62°41′38″ E a distance of 411.92 feet to the point of beginning, said parcel containing 3,103.50 acres prior to the deduction of the exclusion areas below:

Exclusion Area No. 1

Beginning at concrete monument 00-Y-162 set on the north side of Bear Creek Road and having coordinates of N=610,082.8100 and E=2,488,527.1000, and point being S 70°49′ W a distance of 615 feet from the centerline intersection of Bear Creek Road and Scarboro Road; thence along the following bearings and distances to a point located by iron pins at each of the calls:

S 51°53′33″ W a distance of 782.97 feet to concrete monument 00-Y-163 having coordinates of N=609,599.6100 and E=2,487,911.0200; thence S 65°58′55″ W a distance of 1740.91 feet; thence a distance of 56.44 feet along a curve to the right having a radius of 35.00 feet and a chord bearing of S 17°02′37″ W and a distance of 50.52 feet;

S 61°35′46″ W a distance of 658.58 feet,

N 40°54′14″ W a distance of 90.02 feet,

S 47°39′06″ W a distance of 208.40 feet;

Thence a distance of 33.29 feet along a curve to the left having a radius of 641.96 feet and a chord bearing of S 38°38′37″ W and a distance of 207.48 feet; thence a distance of 33.29 feet along a curve to the left having a radius of 15.00 feet and a chord bearing of S 50°13′55″ E and a distance of 26.87 feet;

Thence S 29°50′08″ East a distance of 5.09 feet to a point on the north side of the pavement of Bear Creek Road; thence with said pavement S 58°19′32″ West a distance of 120.80 feet; thence leaving the said pavement N 18°17′28″ W a distance of 4.57 feet;

Thence a distance of 42.11 feet along a curve to the left having a radius of 77.65 feet and a chord bearing of N 32°28′32″ E and a distance of 41.59 feet;

Thence along the north edge of Water Plant Access Road a distance of 305.96 feet along a curve to the right having a radius of 643.85 feet and a chord bearing of N 36°30′09″ E and a distance of 303.09 feet;

N 47°27′06″ E a distance of 189.92 feet,

N 41°17′00″ E a distance of 124.09 feet,

N 42°06′38″ E a distance of 181.51 feet,

N 46°48′19″ E a distance of 95.15 feet;

Thence a distance of 66.86 feet along a curve to the left having a radius of 193.47 feet and a chord bearing of N 37°10′04″ E and a distance of 66.53 feet; thence N 26°32′53″ E a distance of 65.34 feet;

Thence a distance of 190.81 feet along a curve to the right having a radius of 195.00 feet and a chord bearing of N 55°11′32″ E a distance of 183.29 feet; thence N 83°13′28″ E a distance of 200.71 feet;

Thence a distance of 230.48 feet along a curve to the left having a radius of 400.00 feet and a chord bearing of N 66°43′02″ E a distance of 227.31 feet;

N 50°12′36″ E a distance of 95.72 feet,

N 45°41′36″ E a distance of 138.30 feet,

N 42°02′23″ E a distance of 27.43 feet,

N 84°30′19″ W a distance of 201.94 feet,

S 35°41′41″ W a distance of 23.89 feet,

N 52°02′10″ W a distance of 52.57 feet,

S 63°45′23″ W a distance of 185.49 feet,

N 40°47′01″ W a distance of 80.60 feet,

N 38°21′38″ W a distance of 74.36 feet,

N 26°41′16″ W a distance of 47.22 feet,

N 21°22′22″ W a distance of 50.11 feet,

N 16°05′31″ W a distance of 27.86 feet,

N 12°06′35″ W a distance of 33.42 feet,

S 55°06′13″ W a distance of 92.80 feet,

S 42°24′15″ W a distance of 95.10 feet,

S 68°50′25″ W a distance of 177.76 feet,

N 31°18′52″ W a distance of 260.76 feet,

N 59°46′58″ E a distance of 281.46 feet,

S 67°22′07″ E a distance of 182.93 feet,

N 07°11′27″ W a distance of 21.98 feet;

Thence a distance of 90.82 feet along a curve to the right having a radius of 343.24 feet and a chord bearing of N 01°18′15″ E and a distance of 90.55 feet; thence N 14°53′17″ E a distance of 400.64 feet to a concrete monument 00-Y-164 having coordinates of N=610,246.3352 and E=2,486,234.5124;

Thence N 41°03′52″ W a distance of 189.93 feet to the south side of Midway Turnpike; thence with the south side of Midway Turnpike, N 62°17′33″ E a distance of 109.31 feet;

Thence a distance of 84.23 feet along a curve to the left having a radius of 220.04 feet and a chord bearing of N 53°22′36″ E and a distance of 83.72 feet; thence N 42°24′37″ E a distance of 55.09 feet;

Thence a distance of 52.98 feet along a curve to the right having a radius of 104.83 feet and a chord bearing N 56°53′20″ E and a distance of 52.42 feet; thence N 71°22′04″ E a distance of 57.71 feet;

Thence a distance of 68.12 feet along a curve to the left having a radius of 109.69 feet and a chord bearing of N 53°34′39″ E and a distance of 67.03 feet; thence N 36°34′16″ E a distance of 62.79 feet;

Thence a distance of 164.30 feet along a curve to the right having a radius of 164.16 feet and a chord bearing of N 66°37′43″ E and a distance of 157.53 feet; thence a distance of 127.85 feet along a curve to the left having a radius of 110.10 feet and a chord bearing of

N 64°41′34″ E a distance of 120.79 feet,

N 31°29′41″ E a distance of 146.26 feet;

Thence a distance of 125.97 feet along a curve to the right having a radius of 136.27 feet and a chord bearing of N 57°58′42″ E a distance of 121.53 feet;

N 84°27′43″ E a distance of 41.81 feet;

Thence a distance of 222.36 feet along a curve to the left having a radius of 283.62 feet and a chord bearing of N 62°00′08″ E a distance of 216.70 feet;

N 39°32′32″ E a distance of 21.09 feet;

Thence a distance of 148.42 feet along a curve to the right having a radius of 144.69 feet and a chord bearing of N 68°55′47″ E a distance of 141.99 feet;

S 81°40′59″ E a distance of 126.15 feet;

Thence a distance of 196.21 feet along a curve to the left having a radius of 453.57 feet and a chord bearing of N 85°55′28″ E a distance of 194.68 feet;

N 70°37′33″ E distance of 150.03 feet;

Thence leaving said south side of Midway Turnpike S 34°14′27″ East a distance of 1339.32 feet to the Point of Beginning, and containing 81.33 acres, more or less.

Exclusion Area No. 2

Beginning at concrete monument 00-Y-166 having coordinates of N=608,866.1167 and E=2,491,528.3694, said point being S 53°08′ East a distance of 1175 feet from the centerline intersection of Second Street and Scarboro Road; thence along the following bearings and distances running 5 feet outside and parallel to a chain link fence to a point located by iron pins at each of the calls:

S 11°57′51″ E a distance of 190.83 feet,

S 20°58′39″ W a distance of 162.04 feet,

N 82°41′43″ W a distance of 326.09 feet,

N 20°55′08″ W a distance of 161.87 feet,

N 70°55′21″ W a distance of 256.95 feet,

N 21°25′10″ E a distance of 138.58 feet,

S 70°56′19″ E a distance of 255.01 feet,

N 29°13′41″ E a distance of 153.55 feet,

N 36°55′00″ E a distance of 77.89 feet to concrete monument 00-Y-165 set having coordinates of N=609,046.7759 and E=2,491,299.2370;

Thence S 51°44′46″ E a distance of 291.79 feet to the Point of Beginning, said parcel containing 4.36 acres, more or less.

The net area included within the boundary to be posted for 229 security purposes is 3,017.81 acres, more or less.

[FR Doc. 04-24939 Filed 11-8-04; 8:45 am]

BILLING CODE 6450-01-P